UNIFIED CARRIER REGISTRATION PLAN

Sunshine Act Meeting Notice; Unified Carrier Registration Plan Board of Directors Meeting

TIME AND DATE: March 11, 2021, from Noon to 3 p.m., Eastern time.

PLACE: This meeting will be accessible via conference call and screen sharing. Any interested person may call 877-853-5247 (US toll free), 888-788-0099 (US toll free), +1 929-205-6099 (US toll), or +1 669-900-6833 (US toll), Conference ID 938 4665 0671, to participate in the meeting. The website to participate via Zoom Meeting and screen share is https://kellen.zoom.us/j/93846650671.

STATUS: Parts of this meeting will be open to the public. Parts of this meeting will be closed to the public pursuant to Government in the Sunshine Act exemptions (c)(9)(B) and (c)(10) (see agenda below for further information).

MATTERS TO BE CONSIDERED: The Unified Carrier Registration Plan Board of Directors (the “Board”) will continue its work in developing and implementing the Unified Carrier Registration Plan and Agreement. The subject matter of the meeting will include:

Agenda

Portions Open to the Public

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

Agenda will be reviewed and the Board will consider adoption.

Ground Rules

➢ Board actions taken only in designated areas on agenda

IV. Approval of Minutes of the January 28, 2021 UCR Board Meeting—UCR Board Chair

For Discussion and Possible Action

Draft Minutes of the January 28, 2021 UCR Board meeting will be reviewed. The Board will consider action to approve.

V. Replacement of UCR Board Member—UCR Board Chair and UCR Executive Director

For Discussion and Possible Action

One member of the UCR Board of Directors whose term expires on May 31, 2021 has requested that he not be re-appointed to serve an additional term. The UCR Board will discuss and may take action to recommend an appointment to the Board from the United States Department of Transportation for this position.

VI. Report of FMCSA—FMCSA Representative

The Federal Motor Carrier Safety Administration (FMCSA) will provide a report on any relevant activity.

VII. Updates Concerning UCR Legislation—UCR Board Chair

The UCR Board Chair will call for any updates regarding UCR legislation since the last Board meeting.

VIII. Subcommittee Reports

Audit Subcommittee—UCR Audit Subcommittee Chair

A. Tracking of Audit Data in the Focused Anomaly Reviews (FARs)—UCR Audit Subcommittee Chair

The UCR Audit Subcommittee Chair will discuss the merits of the Subcommittee having an oversight role in the audit notes on closed audits regarding the FARs and MCS-150 databases when there is an indication of an error or insufficient documentation to close the audit.

B. MCS-150 Retreat Audit Program—UCR Audit Subcommittee Chair and DSL Transportation

The UCR Audit Subcommittee Chair and DSL Transportation will lead a discussion regarding the MCS-150 retreat audit program provided by UCR and the progress made with participating states. States may opt into the program. States will remain engaged in the audit process but may have a lesser burden of having to attend to unresponsive/unproductive retreat audits.

C. 2020 State UCR Audit Reports—UCR Audit Subcommittee Chair

The UCR Audit Subcommittee Chair will lead a discussion regarding the states upcoming obligations regarding 2020 audit reports. Reminder that the 2020 UCR state annual audit reports will be reviewed after March 31, 2021.

D. UCR Violation Assigned in the National Registration System—UCR Audit Subcommittee Chair

The UCR Audit Subcommittee Chair will lead a discussion on the importance of states to follow up with motor carriers having inspection and UCR violations in the NRS.

E. NRS Testing—Penetration and Vulnerability Testing—UCR Technology Manager

The UCR Technology Manager will provide an update on plans to conduct testing of the National Registration System (NRS) to ensure that appropriate measures are taken to resist unwanted attacks.

F. State Compliance Reviews—UCR Depository Manager

The UCR Depository Manager will provide an update on plans to conduct state compliance reviews and will remind states that have been selected for reviews in 2021.

Finance Subcommittee—UCR Finance Subcommittee Chair

A. Review UCR Bank Balance Summary Report—UCR Depository Manager

The UCR Depository Manager will review the UCR Bank Balance Summary Report as of February 28, 2021 and answer questions from the Board.

B. Review 2021 Administrative Expenses Through February 28, 2021—UCR Depository Manager

The UCR Depository Manager will present the administrative costs incurred for the period of January 1, 2021 through February 28, 2021, compared to the budget for the same time-period, and discuss all significant variances.

C. Status of 2020 and 2021 Registration Years Fee Collections and Compliance Percentages—UCR Depository Manager

The UCR Depository Manager will provide updates on the results of collections and registration compliance rates for the 2020 and 2021 registration years.

D. Plans for April 2021 Distribution—UCR Depository Manager

The UCR Depository Manager will discuss the plans for making a second distribution of funds to the remaining states that have not yet achieved their full revenue entitlements for the 2021 registration year.

E. Plans for Additional Subcommittee Meetings in 2021—UCR Finance Subcommittee Chair

The UCR Finance Subcommittee Chair will discuss the plans for holding two additional Subcommittee meetings. The first meeting is scheduled for Thursday, April 1, 2021. A second meeting is planned for mid-May. A date has not yet been finalized for this meeting.

Education and Training Subcommittee—UCR Education and Training Subcommittee Chair

• Update on Basic Audit Training Module and Flow Chart/Decision Tree—UCR Education and Training Subcommittee Chair

The UCR Education and Training Subcommittee Chair will provide an update on the development of the Basic Audit Training Module and Flow Chart/Decision Tree.

IX. Contractor Reports—UCR Executive Director

• UCR Executive Director's Report

The UCR Executive Director will provide a report covering recent activity for the UCR Plan.

• DSL Transportation Services, Inc.

DSL Transportation Services, Inc. will report on the latest data from the FARs program, discuss motor carrier inspection results, and other matters.

• Seikosoft

Seikosoft will provide an update on recent/new activity related to the NRS.

• UCR Administrator Report (Kellen)—UCR Operations and Depository Managers

The UCR Staff will provide its management report covering recent activity for the Depository, Operations, and Communications.

Portions Closed to the Public

Pursuant to the Government in the Sunshine Act at 5 U.S.C. 552b(d)(1), the Board must now vote to approve closing the portion of the meeting dealing with item X on the agenda.

The Chief Legal Officer has advised that the Board may close this portion of this meeting pursuant to Government in the Sunshine Act exemptions (9)(B) and (10). By approving this action, the Board determines that public participation would likely disclose information for which premature disclosure would likely frustrate implementation of a proposed agency action and/or specifically concern the discussion of information, the premature disclosure of which would likely negatively impact the agency's participation in an ongoing civil action or proceeding. Therefore, by approving this action, the Board is invoking Exemptions (9)(B) and (10) to close this portion of the meeting (5 U.S.C. 552b(c)(9)(B) and (10)).

A copy of the vote on the closure of this portion of this meeting shall be made publicly available on the Unified Carrier Registration Plan website within one day of the vote taken herein (https://plan.ucr.gov).

X. Discussion and Possible UCR Board Action Concerning the March 2019 Data Event—UCR Chief Legal Officer

For Discussion and Possible Action

The UCR Chief Legal Officer will discuss available legal and financial options for obtaining reimbursement of the costs and expenses incurred by the UCR as a result of the March 2019 Data Event. The Board may adopt legal and/or financial courses of action to obtain reimbursement.

Portions Open to the Public

XI. Other Business—UCR Board Chair

The UCR Board Chair will call for any business, old or new, from the floor.

XII. Adjournment—UCR Board Chair

The UCR Board Chair will adjourn the meeting.

This agenda will be available no later than 5:00 p.m. Eastern time, March 4, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-04983 Filed 3-5-21; 4:15 pm]

BILLING CODE 4910-YL-P